COMMITTEE FOR PURCHASE FROM PEOPLE WHO ARE BLIND OR SEVERELY DISABLED

Procurement List; Proposed Additions and Deletion

AGENCY: Committee for Purchase From People Who Are Blind or Severely Disabled.

ACTION: Proposed Additions to and Deletion From Procurement List.

SUMMARY: The Committee is proposing to add to the Procurement List products and services to be furnished by nonprofit agencies employing persons who are blind or have other severe disabilities, and to delete service previously furnished by such agencies.

Comments Must Be Received On Or Before: 6/8/2009.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 1670-01-529-1202—LCADS High Velocity Parachute.

NPA: Winston-Salem Industries for the Blind, Winston-Salem, NC.

Contracting Activity: DEPT OF THE ARMY, XR W6BA ACA NATICK, Natick, MA.

Coverage: C-list for 33% of total allocation over 5 years for the Department of the Army, Natick, MA.

Tape, Pressure Sensitive, Yellow & Blue Duct

NSN: 7510-00-NIB-0910—Tape, Painters.

NSN: 7510-00-NIB-0860—Tape, Painters.

NSN: 7510-00-NIB-0911—Tape, Painters.

NSN: 7510-00-NIB-0859—Tape, Duct.

NSN: 7510-00-NIB-0858—Tape, Duct.

NPA: Cincinnati Association for the Blind, Cincinnati, OH.

Contracting Activity: Federal Acquisition Service, GSA/FSS OFC SUP CTR—Paper Products, New York, NY.

Coverage: A-list for the total Government requirement as aggregated by the General Services Administration.

NSN: 5120-00-878-5932—Intrenching Tool.

NPA: The Lighthouse for the Blind, Inc. (Seattle Lighthouse), Seattle, WA.

Contracting Activity: Federal Acquisition Service, GSA/FSS Tools Acquisition Division I, Kansas City, MO.

Coverage: B-list for the broad Government requirement as specified by the General Services Administration.

Services

Service Type/Location: Custodial Services, VA Midsouth CMOP, 5171 Sam Jared Drive, Murfreesboro, TN.

NPA: Bobby Dodd Institute, Inc., Atlanta, GA.

Contracting Activity: Veterans Affairs, Department Of, CMOP National Contracting, Leavenworth, KS.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

End of Certification

The following service is proposed for deletion from the Procurement List:

Services

Service Type/Location: Janitorial/Custodial, Fort Bliss: Main Store Building 1735, AAFES, Main Store—Building 1735, Fort Bliss, TX.

NPA: Goodwill Industries of El Paso, El Paso, TX.

Contracting Activity: Dept. of the Army, XR W40M Natl. Region Contract OFC, Washington, DC.

Barry S. Lineback,
Director, Business Operations.

[FR Doc. E9-10775 Filed 5-7-09; 8:45 am]

BILLING CODE 6353-01-P